DEPARTMENT OF COMMERCE

National Oceanic and Atmospheric Administration

Agency Information Collection Activities; Submission to the Office of Management and Budget (OMB) for Review and Approval; Comment Request; Shipboard Observation Form for Floating Marine Debris

The Department of Commerce will submit the following information collection request to the Office of Management and Budget (OMB) for review and clearance in accordance with the Paperwork Reduction Act of 1995, on or after the date of publication of this notice. We invite the general public and other Federal agencies to comment on proposed, and continuing information collections, which helps us assess the impact of our information collection requirements and minimize the public's reporting burden. Public comments were previously requested via the Federal Register on January 29, 2021 (86 FR 7540) during a 60-day comment period. This notice allows for an additional 30 days for public comments.

Agency: National Oceanic and Atmospheric Administration (NOAA), Commerce.

Title: Shipboard Observation Form for Floating Marine Debris.

OMB Control Number: 0648-0644.

Form Number(s): None.

Type of Request: Regular submission (extension of a current information collection).

Number of Respondents: 5.

Average Hours per Response: 0.5.

Total Annual Burden Hours: 2.5.

Needs and Uses: This is a request for extension of a currently approved information collection. This data collection project will be coordinated by the NOAA Marine Debris Program, under the authority of Marine Debris Act (33 U.S.C. 1951 et seq.) to identify, determine sources of, assess, prevent, reduce, and remove marine debris and address the adverse impacts of marine debris on the economy of the United States, marine environment, and navigation safety.

Information is collected from recreational and commercial vessels, shipboard observers, and non-government organizations (NGOs) who are on the ocean regularly, as well as numerous experts on marine debris observations at sea. The Shipboard Observation Form for Floating Marine Debris was created based on methods used in studies of floating marine debris by established researchers, previous shipboard observational studies conducted at sea by NOAA, and the experience and input of recreational sailors. The goal of this form is to be able to report the amount and types of visible, floating marine debris within an area of a water body of a known size. Additionally, this form will help collect data on floating marine debris that could result from future severe marine debris generating events in order to model the movement of the debris as well as prepare (as needed) for debris arrival. This form can be used to collect data on floating marine debris in any water body.

Affected Public: Individuals or households; not-for profit institutions; business or other for-profit organizations.

Frequency: Once per year.

Respondent's Obligation: Voluntary.

Legal Authority: Marine Debris Act (33 U.S.C. 1951 et seq.).

This information collection request may be viewed at www.reginfo.gov. Follow the instructions to view the Department of Commerce collections currently under review by OMB.

Written comments and recommendations for the proposed information collection should be submitted within 30 days of the publication of this notice on the following website www.reginfo.gov/public/do/PRAMain. Find this particular information collection by selecting “Currently under 30-day Review—Open for Public Comments” or by using the search function and entering either the title of the collection or the OMB Control Number 0648-0644.

Sheleen Dumas,
Department PRA Clearance Officer, Office of the Chief Information Officer, Commerce Department.

[FR Doc. 2021-12367 Filed 6-11-21; 8:45 am]

BILLING CODE 3510-JE-P